RAILROAD RETIREMENT BOARD

20 CFR Part 220

RIN 3220-AB41

Determining Disability

AGENCY: Railroad Retirement Board.

ACTION: Final rule.

SUMMARY: The Railroad Retirement Board (Board) amends its regulations to increase from $500 to $700 the average monthly earnings guidelines used to determine whether work done by an individual may be considered regular employment. This change coincides with an increase in the guidelines contained in the regulations of the Social Security Administration for determining substantial gainful activity that became effective July 1, 1999.

DATES: Effective Date: This rule is effective March 17, 2000.

Applicability Date: This rule will be applied to all disability claims for which a final decision had not been rendered as of July 1, 1999.

ADDRESSES: Comments may be made to the Secretary to the Board, Railroad Retirement Board, 844 North Rush Street, Chicago, Illinois 60611.

FOR FURTHER INFORMATION CONTACT: Marguerite P. Dadabo, Senior Attorney, (312) 751-4945, TDD (312) 751-4701.

SUPPLEMENTARY INFORMATION: The Railroad Retirement Act provides for disability annuities for employees, widow(er)s, and children of deceased railroad employees who are unable to engage in any regular employment because of a permanent physical or mental impairment. Regular employment is defined by reference to the definition of substantial gainful activity under the Social Security Act. Sections 220.141 and 220.142 of the Board's regulations reflect this definition and define “substantial gainful activity” (SGA) as work activity that involves doing significant physical or mental activities for pay or profit. Work activity is gainful if it is the kind of work usually done for pay or profit, whether or not a profit is realized. Section 220.143 sets forth earnings levels at which the Board considers a disabled person to be engaged in SGA regardless of the severity of his or her impairment. The amount of average monthly earnings that ordinarily demonstrates SGA for people with an impairment has not been increased since January 1, 1990. Consequently, with respect to months after June 1999 the Board raises from $500 to $700 the average monthly earnings guidelines used to determine whether work done by a person with a disability is substantial gainful activity. The Board has determined that an increase in the amount of earnings that constitutes SGA provides an updated indicator of when earnings demonstrate the ability to engage in SGA and is a significant improvement to the existing incentives to encourage individuals with disabilities to attempt to work. This increase also conforms to changes in the regulations of the Social Security Administration which became effective July 1, 1999 (64 FR 18566, April 15, 1999; a correction appears at 64 FR 22903, April 28, 1999).

The Board published this rule as an interim final rule on November 18, 1999 (64 FR 62976) and invited comments by July 18, 2000. No comments were received. Accordingly, the interim final rule is adopted as a final rule without change.

Dated: March 8, 2000.
By Authority of the Board.
Beatrice Ezerski,
Secretary to the Board.

[FR Doc. 00-6594 Filed 3-16-00; 8:45 am]

BILLING CODE 7905-01-P